DEPARTMENT OF AGRICULTURE

Food Safety and Inspection Service

[Docket No. FSIS-2018-0040]

Notice of Request for a New Information Collection: Stakeholder Input on Federal Outreach To Control Listeria Monocytogenes at Retail

AGENCY: Food Safety and Inspection Service, USDA.

ACTION: Notice and request for comments.

SUMMARY: In accordance with the Paperwork Reduction Act of 1995 and Office of Management and Budget (OMB) regulations, the Food Safety and Inspection Service (FSIS) is announcing its intention to collect information from stakeholders from industry, State and public health and agriculture departments with responsibilities for retail food safety, local health departments, and grocers to gather information on FSIS outreach efforts related to retail best practices to control Listeria monocytogenes (Lm) in retail delicatessens. The purpose of this information collection is to enhance Federal outreach and interagency coordination to control Lm at retail.

DATES: Submit comments on or before January 22, 2019.

ADDRESSES: FSIS invites interested persons to submit comments on this Federal Register notice. Comments may be submitted by one of the following methods:

• Federal eRulemaking Portal: This website provides the ability to type short comments directly into the comment field on this web page or to attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0040. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT:

Gina Kouba, Office of Policy and Program Development, Food Safety and Inspection Service, USDA, 1400 Independence Avenue SW, Room 6065, South Building, Washington, DC 20250-3700; (202) 720-5627.

SUPPLEMENTARY INFORMATION:

Title: Stakeholder Input on Federal Outreach to Control Listeria Monocytogenes at Retail.

Type of Request: New information collection.

Abstract: FSIS has been delegated the authority to exercise the functions of the Secretary (7 CFR 2.18, 2.53) as specified in the Federal Meat Inspection Act (FMIA) (21 U.S.C. 601, et seq.), the Poultry Products Inspection Act (PPIA) (21 U.S.C. 451, et seq.) and the Egg Products Inspection Act (EPIA) (21 U.S.C. 1031, et seq.). These statutes mandate that FSIS protect the public by verifying that meat, poultry, and egg products are safe, wholesome, unadulterated, and properly labeled and packaged.

In 2016, the National Advisory Committee for Meat and Poultry Inspection (NACMPI) made recommendations to FSIS on best practices for the control of Listeria monocytogenes (Lm) in retail delicatessens. Several of the committee's key recommendations focused on messaging and outreach. Specifically, the Committee recommended that FSIS's Lm related guidance and messaging for retail be clear, understandable, practical, and available to all audiences. The committee asked that FSIS get input from stakeholders regarding their information needs, how they currently get or would prefer to get information, and to provide input on FSIS's current outreach materials (e.g., brochure—“Guidance for Controlling Listeria monocytogenes (Lm) in Retail Delicatessens”, Lm Deli Self-Assessment Tool, etc.). This stakeholder input will be used to guide FSIS's outreach efforts to retail delicatessens.

In response to the NACMPI recommendations, FSIS, in collaboration with the Food and Drug Administration (FDA) and the Centers for Disease Control and Prevention (CDC), will conduct focus groups with a sample of stakeholders from industry, state and local public health and agriculture departments, and retail delicatessens to gather feedback. In the focus groups, a sample of stakeholders will be invited to provide input on the awareness and usefulness of existing outreach materials and tools related to best practices for controlling Lm in delicatessens, how they currently receive this type of information (e.g., from FSIS, FDA, CDC, State Health department, Cooperative Extension), and how those channels of communication could be improved. FSIS's Office of Planning, Analysis, and Risk Management will analyze and summarize the data, and provide it to the interagency team (FSIS, FDA, and CDC) for further consideration to enhance Federal outreach and interagency coordination to control Lm at retail. This feedback will help FSIS, FDA and CDC better understand the information needs of State public health and agriculture departments with retail food safety responsibilities, local health departments, and retail delicatessens, how these stakeholders currently get information used to guide retail food safety efforts, and provide feedback on the usefulness and practicality of current FSIS outreach (e.g., tools and communication) to support control of Lm in retail delicatessens. The feedback collected from participants may also include practical recommendations for improving Federal communications and outreach efforts to support the control of Lm at retail moving forward.

The focus group participants will be selected from State and local health or agriculture departments with responsibilities for food safety in retail delicatessens, supermarket chains, independent grocers with retail delis, and the Cooperative Research and Extension Services. Within those groups, FSIS seeks to include participants representative of specific selection criteria, which was determined based on input from several national associations representing State public health and agriculture departments, local health departments, and grocers. The selection criteria include (but are not limited to) geographic diversity (and within that, urban and rural location), whether retail food safety falls under a State health or agricultural departments, whether the retail deli in a grocery store of a national versus regional supermarket chain or an independent grocery store, and whether English is a second language. These criteria were developed based on input from several associations, including: Association for Food and Drug Officials (AFDO), Association of State and Territorial Health Officials (ASTHO), Association for Frozen Food Institute (AFFI), Federal Marketing Institute (FMI), National Grocers Association (NGA), National Environmental Health Association (NEHA), National Association of County and City Health Officials (NACCHO), and National Association of State Departments of Agriculture (NASDA).

Estimate of Burden:

Respondents | Number of respondents | Participation time (hours) | Burden (hours)
Stakeholders—Industry/Large Retailers | 80 | 1.75 | 140
Stakeholders—Independent/Small Retailers and Deli Owners | 80 | 1.75 | 140
Stakeholders—State/Local Organizations | 80 | 1.75 | 140
Totals | 240 | 1.75 | 420

Respondents: Stakeholders.

Estimated No. of Respondents: 240.

Estimated No. of Annual Responses per Respondent: 1.

Estimated Total Burden on Respondents: 420 hours.

Copies of this information collection assessment can be obtained from Gina Kouba, Office of Policy and Program Development, Food Safety and Inspection Service, USDA, 1400 Independence Avenue SW, Room 6065, South Building, Washington, DC 20250-3700; (202) 720-5627.

Comments are invited on: (a) Whether the proposed collection of information is necessary for the proper performance of FSIS's functions, including whether the information will have practical utility; (b) the accuracy of FSIS's estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS isable to provide information to a much broader, more diverse audience. In addition, FSIS offers an email subscription service which provides automatic and customized access to selected food safety news and information. This service is available at: http://www.fsis.usda.gov/subscribe. Options range from recalls to export information, regulations, directives, and notices. Customers can add or delete subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email: Mail: U.S. Department of Agriculture, Director, Office of Adjudication, 1400 Independence Avenue SW, Washington, DC 20250-9410, Fax: (202) 690-7442, Email: program.intake@usda.gov.

Persons with disabilities who require alternative means for communication (Braille, large print, audiotape, etc.), should contact USDA's TARGET Center at (202) 720-2600 (voice and TDD).

Paul Kiecker,
Acting Administrator.

[FR Doc. 2018-25265 Filed 11-19-18; 8:45 am]

BILLING CODE 3410-DM-P